DEPARTMENT OF INTERIOR

National Park Service

[NPS-MWR-KNRI-23883; PPMWMWROW0, PMP00UP05.YP00000]

Notice of Availability of the Final Archeological Resources Management Plan/Environmental Impact Statement, Knife River Indian Villages National Historic Site, North Dakota

AGENCY: National Park Service.

ACTION: Notice of availability.

SUMMARY: The National Park Service (NPS) announces the availability of the Final Archeological Resources Management Plan/Environmental Impact Statement (Final Plan/EIS), Knife River Indian Villages National Historic Site, North Dakota.

DATES: The NPS will execute a Record of Decision no sooner than 30 days from the date that the US Environmental Protection Agency publishes the Notice of Availability of the Final Plan/EIS in the Federal Register.

ADDRESSES: A limited number of hard-copies of the Final Plan/EIS may be picked up in-person or may be obtained by making a request in writing to Knife River Indian Villages National Historic Site, PO Box 9, Stanton, North Dakota 58571. The document is also available on the internet at the NPS Planning, Environment, and Public Comment website at: http://parkplanning.nps.gov/KNRIfinalEIS.

FOR FURTHER INFORMATION CONTACT: Superintendent, Brenda Todd, may be reached at this address above, by telephone at (701) 745-3300 or via email at Brenda_Todd@nps.gov.

SUPPLEMENTARY INFORMATION: The NPS announces the availability of the Final Plan/EIS. This process has been conducted pursuant to the National Environmental Policy Act (NEPA) (42 United States Code 4321 et seq.) and the regulations of the US Department of the Interior (43 Code of Federal Regulations [CFR] part 46). The purpose of the plan is to provide a management framework for proactive, sustainable archeological resource protection for the next 30 years. The NPS has identified four major threats to the park's archeological resources: Riverbank erosion, burrowing mammals, vegetation encroachment and the location of park infrastructure. Over the past few decades, village remnants and archeological sites adjacent to the Knife River have experienced measurable erosion. In addition, northern pocket gophers and the encroachment of woody and overgrown vegetation have displaced soil and artifacts from chronologically stratified deposits. Under the preferred alternative, these threats would be addressed following an adaptive management framework designed to detect changes to important indicators and provide park managers tools to manage them.

The preferred alternative also calls for the relocation of the park maintenance facility. The maintenance facility is located on the edge of the Big Hidatsa Village site, a designated National Historic Landmark and sacred site of the Mandan, Hidatsa, and Arikara Nation (MHA Nation). If off-site space is available and cost effective, the maintenance facility would be relocated outside the park. If suitable property outside the park is unavailable or cost prohibitive the NPS intends to relocate and construct the maintenance facility within the park.

Similarly, the preferred alternative calls for the relocation of the museum collections storage facility if current efforts to stop water infiltration are unsuccessful. The museum collections storage facility, located in the basement of the visitor center, has experienced water leaks since construction was completed in 1992. A project is underway to waterproof the exterior of the building. If efforts fail, the museum collections storage facility would be moved to a suitable location in consultation with the MHA Nation.

Notice of availability of the Draft Plan/EIS was published in the Federal Register on November 4, 2016 (81 FR 214), and the NPS provided the public with 60 days to review and comment on the draft document. The NPS also held public meetings in Stanton, North Dakota, and Bismarck, North Dakota, to facilitate public understanding of the document and provide opportunity for public comment. Public comments informed the NPS analysis of alternatives in the Final Plan/EIS. A summary of the public comments received, and NPS responses to those comments are addressed in chapter 5 of the Final Plan/EIS.

Authority

The authority for publishing this notice is 40 CFR 1506.6.

Dated: March 8, 2018.
Cameron H. Sholly,
Regional Director, Midwest Region, National Park Service.

[FR Doc. 2018-05409 Filed 3-15-18; 8:45 am]

BILLING CODE P